DEPARTMENT OF AGRICULTURE

Animal and Plant Health Inspection Service

9 CFR Part 3

[Docket No. 04-088-2]

RIN 0579-ZA01

Animal Welfare; Standards for Ferrets: Extension of Comment Period

AGENCY: Animal and Plant Health Inspection Service, USDA.

ACTION: Petition and request for comments; extension of comment period.

SUMMARY: We are extending the comment period for our notice announcing the receipt of a petition requesting that specific standards be promulgated for the humane handling, care, treatment, and transportation of domestic ferrets. This action will allow interested persons additional time to prepare and submit comments.

DATES: We will consider all comments that we receive on Docket No. 04-088-1 on or before November 18, 2005.

ADDRESSES: You may submit comments by either of the following methods:

• EDOCKET: Go to http://www.epa.gov/feddocket to submit or view public comments, access the index listing of the contents of the official public docket, and to access those documents in the public docket that are available electronically. Once you have entered EDOCKET, click on the “View Open APHIS Dockets” link to locate Docket 04-088-1.

• Postal Mail/Commercial Delivery: Please send four copies of your comment (an original and three copies) to Docket No. 04-088-1, Regulatory Analysis and Development, PPD, APHIS, Station 3C71, 4700 River Road Unit 118, Riverdale, MD 20737-1238. Please state that your comment refers to Docket No. 04-088-1.

Reading Room: You may read any comments that we receive on Docket 04-088-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Dr. Jerry DePoyster, Senior Veterinary Medical Officer, Animal Care, APHIS, 4700 River Road Unit 84, Riverdale, MD 20737-1234; (301) 734-7586.

SUPPLEMENTARY INFORMATION: On August 5, 2005, we published in the Federal Register (70 FR 45322-45323, Docket No. 04-088-1) a notice in which we announced the receipt of, and requested comments on, a petition from the International Ferret Congress. The petition requested that APHIS develop and promulgate specific standards for the care and handling of domestic ferrets (Mustela furo). Currently, the standards that apply to domestic ferrets are set forth in 9 CFR part 3, Subpart F, under the generic standards for warmblooded animals other than dogs, cats, rabbits, hamsters, guinea pigs, nonhuman primates, and marine mammals.

Comments on the petition were required to be received on or before October 4, 2005. We are extending the comment period on Docket No. 04-088-1 until November 18, 2005, an additional 45 days from the original close of the comment period. This action will allow interested persons additional time to prepare and submit comments.

Done in Washington, DC, this 9th day of September, 2005.
W. Ron DeHaven,
Administrator, Animal and Plant Health Inspection Service.

[FR Doc. 05-18742 Filed 9-20-05; 8:45 am]

BILLING CODE 3410-34-P